DEPARTMENT OF HEALTH AND HUMAN SERVICES

Administration for Children and Families

[OMB No. 0970-0492]

Submission for OMB Review; Community Services Block Grant Annual Report

AGENCY: Office of Community Services; Administration for Children and Families; HHS.

ACTION: Request for public comment.

SUMMARY: The Administration of Children and Families (ACF), Office of Community Services (OCS) is requesting a three-year extension with minor changes of the Community Services Block Grant (CSBG) Annual Report (OMB No.: 0970-0492, expiration 1/31/2020). This request will support the currently utilized CSBG Annual Report, comprised of Modules 1-4, and incorporates performance management.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation (OPRE), 330 C Street SW, Washington, DC 20201, Attn: OPRE Reports Clearance Officer. All requests, emailed or written, should be identified by the title of the information collection.

SUPPLEMENTARY INFORMATION:

Description: Module 1 includes minor edits to align with the updated, and OMB approved, CSBG State Plan. Module 2, Module 3, and Module 4 include only technical and grammatical updates for ease and clarity of current reporting. Copies of the proposed collection of information can be obtained by visiting: http://www.acf.hhs.gov/programs/ocs/programs/csbg.

Respondents: State governments, including the District of Columbia and the Commonwealth of Puerto Rico, and U.S. territories and CSBG eligible entities (Community Action Agencies).

Annual Burden Estimates:

Instrument | Annual number of respondents | Annual number of responses per respondent | Average burden hours per response | Annual burden hours
CSBG Annual Report (States) | 52 | 1 | 198 | 10,296
CSBG Annual Report (Eligible Entities) | 1,009 | 1 | 697 | 703,273

Estimated Total Annual Burden Hours: 713,569.

Authority: 112 Stat. 2729; 42 U.S.C. 9902(2).

Mary B. Jones,
ACF/OPRE Certifying Officer.

[FR Doc. 2020-00928 Filed 1-21-20; 8:45 am]

BILLING CODE 4184-27-P